DEPARTMENT OF HEALTH AND HUMAN SERVICES

Notice of a Grant for Public Health Educational Efforts Conducted by the National Health Museum

AGENCY: Department of Health and Human Services, Office of the Secretary, Office of Public Health and Science, Office of Minority Health.

ACTION: Notice.

SUMMARY: The Office of Minority Health (OMH), Office of Public Health and Science (OPHS), announces that it will award a single source grant to the National Health Museum of Washington, DC. The purpose of this grant is to support U.S. Department of Health and Human Services (HHS) efforts to communicate emerging public health issues to the public, expand the general audience for HHS public health initiatives such as Steps to a HealthierUS, enhance and expand the teaching of public health to students in grades K-12 by providing educational resources to health and life science teachers, and encourage health and science museums to support public health exhibitions and educational programming.

Authority: Section 301 of the Public Health Service (PHS) Act.

The professional audience for the National Health Museum is comprised of the nation's public health and museum and science center leaders but the end audience that will benefit from the museum is much larger. More than 800 million visits occur each year in American museums and science centers, yet only a relatively small percentage of these visits address public health issues. Funded activities will directly support efforts to reach this public audience with educational activities that incorporate public health learning objectives. Activities will be undertaken to bring public health and museum and science center leaders together to collaborate in the development of products useful to a broad, general audience. Specifically, the grant is intended to: (1) Develop a master plan for museum exhibits; (2) support implementation of the National Public Health Partnership to create a Rapid Response Network (RRN) that could help promote quicker, better-coordinated responses to public health emergencies by communicating CDC and NIH-developed information and research to the public through outreach to the nation's museums, science centers and public health educators, and (3) expand the museum Web site to provide educational resources and instructional support for middle school teachers of health and life sciences.

DATES: Persons requesting additional information about this notice should contact the OPHS Office of Grants Management, no later than November 7, 2003.

ADDRESSES: Persons requesting additional information about this notice should contact the OPHS Office of Grants Management, 1101 Wootton Parkway, 5th Floor, Rockville, MD 20852. An application kit may be requested by telephone from (301) 594-0758 or by fax from (301) 594-9399.

SUPPLEMENTARY INFORMATION: CFDA: Applied for.

I. Funding Opportunity Description

Background

The U.S. Department of Health and Human Services (HHS) is the agency protecting the health of all Americans and providing essential human services, especially for those least able to help themselves. HHS health agencies have responsibility for a wide range of public health activities, working closely with State and local government, public and private nonprofit organizations, schools systems, business and industry. Program responsibilities among public health agencies include but are not limited to biomedical and health services research and translation of research findings into public health practice; the safety of food, drugs, and medical devices; disease prevention and health promotion; improving and expanding access to quality of health care; public health workforce education and development; and conducting rapid and effective responses to public health emergencies. The current HHS Steps to a HealthierUS initiative, led by Secretary Tommy G. Thompson, highlights the importance of prevention in public health, particularly for diseases such as diabetes, obesity, and asthma, by promoting healthy community lifestyles and healthy behavior. The initiative has a special focus on health among youth and older Americans.

The mission of the National Health Museum, a nongovernmental 501[c][3] organization, is to educate, engage, and inspire people, young and old, to understand the past, present, and future of health and health science and empower them to act upon that information to enhance their individual, family, and community health. The goals of the museum are to educate people about the human body and health science, to motivate people to learn more about their health needs and make positive lifestyle changes, to promote appreciation of the Nation's health science and medical heritage, and to serve as an independent and unbiased center of dialogue about health issues. Providing support for the promotion of public health activities was identified by museum planners as one of the key opportunities for museum programming, by museum planners, and the museum is a convener of the National Public Health Partnership comprising 28 organizations dedicated to bridging the gap between public health and informal education in museum and science center settings. Established in 1996, the museum operates an extensive educational Web site at http://www.accessexcellence.org, and plans to build a Washington, DC facility that will include a “discovery center” for visitors, K-12 classroom facilities and resources, and a health conference center. Additionally, the museum will use HHS funds to support implementation of the NPHP, a nationwide network of museums, science centers, and public health organizations that will actively address public health issues. The National Health Museum conceptualized and secured funding for formative research that has resulted in a strategic plan. HHS funds will be used to undertake implementation of this plan, which will involve Partnership members in information dissemination, project collaborations and resource sharing.

The National Health Museum is uniquely qualified to accomplish the purpose of this grant because:

• It is developing an educational facility in the nation's capitol that is projected to attract over 2 million visitors each year with public health-oriented programs, exhibits and activities.

• It provides leadership to a nationwide network of museums and science centers in developing public health educational materials.

• It has an explicit mission to provide assistance to K-12 health and life science teachers and learners of all ages by furthering their understanding of public health.

• It has a Web site that attracts more than 5.7 million monthly “hits” including 650,000 health and life science educators and learners.

• It maintains a national directory that can match public and private sector health experts with schools, community groups, institutions, and media outlets who could use their expertise to develop programs and media on chronic and emerging public health issues.

• As a convener of the National Public Health Partnership which consists of 28 organizations that focus on bridging the gap between public health and education in museum and science center settings, it has strong working relationships with the primary organizations essential to the fulfillment of the public health mission of this grant.

Assistance will be provided only to the National Health Museum under this grant. Various HHS agencies have contributed funds for this effort. The OMH will award this grant on behalf of these agencies.

Purposes of the Grant

The Office of Minority Health, Office of Public Health and Science, will award a single source grant to the National Health Museum. The purpose of this grant is to support HHS efforts to communicate emerging public health issues to the public, expand the general audience for HHS public health initiatives such as Steps to a HealthierUS, enhance and expand the teaching of public health to students in grades 6-12 by providing educational resources to health and life science teachers, and encourage health and science museums to support public health exhibitions and educational programming. The grant will enable the National Health Museum to plan and implement program activities directed toward three goals.

(1) Planning

A Master Plan will be developed to establish a detailed thematic outline for National Health Museum exhibitions and programs, further articulate the key health communications and learning tactics that will be applied by the museum to support the public health mission. Planning sessions with key public health experts from the academic, government, non-profit and private sectors will inform these planning activities, to identify “best practices” from exemplary museums, science centers and other informal learning venues. Museum exhibits ultimately will serve the multi-generational annual audience of more than 2 million individuals that is expected to visit the NHM physical facility in Washington, DC, for public health-oriented programs, exhibitions, and educational activities.

(2) National Public Health Partnership

NHM will use HHS funds to support implementation of the Partnership, a nationwide network of museums, science centers, and public health organizations that will actively address public health issues. Activities will be undertaken to bring public health and museum and science center leaders together to collaborate in the development of products useful to a broad, general audience. One such product will be a Rapid Response Network (RRN) that will help promote quicker, better-coordinated responses to public health emergencies by communicating Centers for Disease Control and Prevention and National Institutes of Health-developed information and research to the public through outreach to the nation's museums, science centers and public health educators. For example, many Partnership member institutions reported receiving inquiries from their visitors recently during the heightened concern over SARS that they were not equipped to answer. Support may be directed to development of items such as resource guides, speakers bureaus, electronic presentations and “toolkits” of fast, credible information on rapidly developing public health emergencies or issues.

(3) Museum Web Site

Funds will be used to expand the Museum Web site, Access Excellence@The National Health Museum, which attracts an online audience of more than 650,000 health and life science educators and learners each month. The site, which is currently focused on serving the needs of high school life science teachers, will be expanded to reach a larger middle school audience and provide additional resources specifically designed for health teachers. These additional resources will help address the needs of health teachers who require standards-based lesson plans that are proven effective but who frequently do not have the experience, knowledge, or time to develop such resources for themselves. The expanded resources, including real-time, on-demand, and streaming video materials, will have up-to-date, quality information that is educationally sound, and uses technology to provide innovative and creative classroom activities.

II. Award Information

OMH intends to make $1 million available to the National Health Museum for a project period of 12 months. A budget of up to $1 million total costs (direct and indirect) for this 12-month project period may be requested to cover costs of:

• Personnel

• Consultants

• Supplies

• Equipment

• Grant related travel

• Other grant related costs

Funds may not be used for:

• Medical treatment

• Construction

• Building alterations or renovations

The budget request must be fully justified in terms of the proposed objectives and activities and include a computational explanation of how costs were determined. The applicant is not required to provide matching funds or share in project costs.

III. Eligibility Information

Assistance will be provided only to the National Health Museum of Washington, DC.

IV. Application and Submission Information

Application must be submitted on Form PHS 5161-1 (Revised July 2000 and approved by OMB under Control Number 0937-0189). An applicant is advised to pay close attention to the specific program guidelines and general instructions provided in the application kit. The application kit is available from the OPHS Office of Grants Management at the address, telephone, and fax numbers previously listed.

An applicant must submit an original and 2 copies of the completed application to the OPHS Office of Grants Management at the address previously listed. The original application must be signed by the individual authorized to act for the applicant organization and to assume for the organizations the obligations imposed by the terms and conditions of the grant award.

To receive consideration, the grant application must be received by the OPHS Office of Grants Management by November 7, 2003. An application will be considered as meeting the deadline if it is (1) received on or before the deadline date, or (2) postmarked on or before the deadline date and received in time for orderly processing. A legibly dated receipt from a commercial carrier or U.S. Postal Service will be accepted in lieu of a postmark. Private metered postmarks will not be accepted as proof of timely mailing. A hand-delivered application must be received in the OPHS Office of Grants Management not later than 4:30 p.m. on the application due date. An application must be submitted in hard copy. An application submitted by facsimile transmission (FAX) or any other electronic format will not be accepted. The applicant will receive written notification from the OPHS Office of Grants Management via Form PHS 3038-1 that its application has been received.

Review Under Executive Order 12372

An application under this announcement is not subject to the requirements of Executive Order 12372, “Intergovernmental Review of Federal Programs.”

Program Requirements/Application Content

This notice seeks an application from the National Health Museum to plan and implement program activities that will communicate emerging public health issues to the public, expand the general audience for HHS public health initiatives, support the teaching of public health to students in grades K-12, and encourage health and science museums to support public health exhibitions and educational programming. A successful application will focus on the following:

(1) Evidence that the applicant has experience in planning and implementing educational programming on health sciences to the general public, including young people.

(2) Evidence that the applicant thoroughly understands public health goals, methods, and programs and that the applicant has access to and working relationships with health and science teachers, and to health and science museums and centers suitable to carry out the objectives of this project.

(3) A clear description of target audiences for the messages and the strategies that will be employed to reach them.

(4) A clear description of goals and objectives for the educational and communications efforts that will be undertaken and the measures that will be used to determine success.

(5) A description of the type, length, activities, and services that will be planned and implemented as part of this effort, and a rationale for the proposed approach.

(6) Evidence that the proposed plan is appropriate, feasible, and logically sequenced to attain the stated goals.

(7) A plan to evaluate individual program activities or the program as a whole and its impact (or potential impact) on the target audiences.

(8) A detailed budget justification for the project that is reasonable, adequate, and cost efficient and which includes staffing requirements derived from the proposed activities.

Program Evaluation

The project is required to have an evaluation plan consistent with the scope of the proposed project and funding level that conforms to the program's stated goal and objectives. The plan should include both a process evaluation to track the implementation of program activities and, as appropriate, an outcome evaluation to track changes in knowledge, skills, or behavior that can be attributed to the program.

V. Application Review Information

The funding decision will be determined by the HHS Deputy Assistant Secretary for Minority Health based on results of a technical review by an ad hoc, independent review group conducted by the Office of Minority Health. The application will be reviewed by an Applications will be assessed for technical merit according to the following criteria:

(1) Methodology (35 Points)

• Appropriateness of proposed approach

• Appropriateness of specific activities for educational programming objectives outlined

• Logic and sequencing of the planned approaches

(2) Evaluation (20 Points)

• Thoroughness, feasibility, and appropriateness of the evaluation design, data collection, and analysis procedures

• Clear intent and plans to document the activities and their outcomes

(3) Background (15 Points)

• Expertise and understanding of public health goals, methodologies, and programs

• Demonstrated access to and experience in communicating health/science information to youth and their teachers, the general public, museums, and science centers

• Demonstrated experience in networking, planning, and implementing activities at a national level

• Demonstrated outcomes of past similar efforts/activities with the target audiences

(4) Objectives (15 Points)

• Merit of the objectives

• Relevance to the program purpose and stated problem

• Attainability in the stated time frames

(5) Management Plan (15 Points)

• Demonstrated knowledge/skills in program and project management

• Demonstrated knowledge/skills in health/science education and health/science communications

• Capability to plan and coordinate efforts at a national level

• Capability to manage and evaluate the project as determined by:

• The qualifications of proposed staff or requirements for “to be hired” staff

—Staff level of effort

—Management experience of the applicant

—Clarity of the applicant's organizational chart

VI. Award Administration Information

The applicant will be notified by mail regarding the outcome of its application. The Notice of Grant Award is the official document informing the applicant that its application has been approved and funded. This document specifies the amount of money awarded, the purpose of the grant, the terms and conditions of the grant award, and the amount of funding, if any, to be contributed to project costs by the grant recipient.

VII. Agency Contacts

For technical assistance on budget and business aspects of the application or administrative requirements, please contact Karen Campbell, OPHS Office of Grants Management, (301) 594-0758.

For assistance with questions about program requirements, please contact Blake Crawford or Yvonne Johns, Division of Information and Education, Office of Minority Health, 1101 Wootton Parkway, Suite 600, Rockville, MD 20852, telephone (301) 443-5224.

Dated: September 30, 2003.
Tuei Doong,
Deputy Director, Office of Minority Health.

[FR Doc. 03-25506 Filed 10-7-03; 8:45 am]

BILLING CODE 4150-29-P